INTERNATIONAL TRADE COMMISSION

[Investigation Nos. 701-TA-458 and 731-TA-1154 (Review)]

Certain Kitchen Appliance Shelving and Racks From China: Determination

On the basis of the record ¹ developed in the subject five-year reviews, the United States International Trade Commission (“Commission”) determines, pursuant to section 751(c) of the Tariff Act of 1930 (19 U.S.C. 1675(c)), that revocation of the existing antidumping and countervailing duty orders on certain kitchen appliance shelving and racks from China would be likely to lead to continuation or recurrence of material injury to a U.S. industry producing refrigeration shelving and a U.S. industry producing oven racks within a reasonably foreseeable time.

¹ The record is defined in sec. 207.2(f) of the Commission's Rules of Practice and Procedure (19 CFR 207.2(f)).

Background

The Commission instituted these reviews on August 1, 2014 (79 FR 44862) and determined on November 4, 2014 that it would conduct expedited reviews (79 FR 69525, November 21, 2014).

The Commission completed and filed its determinations in these reviews on February 24, 2015. The views of the Commission are contained in USITC Publication 4520 (February 2015), entitled Certain Kitchen Appliance Shelving and Racks from China: Investigation Nos. 701-TA-458 and 731-TA-1154 (Review).

Issued: February 24, 2015.
By order of the Commission.
Lisa R. Barton,
Secretary to the Commission.

[FR Doc. 2015-04114 Filed 2-26-15; 8:45 am]

BILLING CODE 7020-02-P